ENVIRONMENTAL PROTECTION AGENCY

[ER-FRL-6609-7]

Environmental Impact Statements; Notice of Availability

Responsible Agency: Office of Federal Activities, General Information (202) 564-7167 or www.epa.gov/oeca/ofa

Weekly receipt of Environmental Impact Statements

Filed July 24, 2000 Through July 28, 2000

Pursuant to 40 CFR 1506.9.

EIS No. 000260, FINAL EIS, FHW, ME, Augusta River Crossing Study, To Reduce Traffic Deficiences within the Transportation System Serving the City of Augusta, Funding, Kennebec River, Kennebec County, ME, Due: September 05, 2000, Contact: Mr. A. Graham Bailey (207) 622-8487.

EIS No. 000261, DRAFT EIS, BOP, CA, Lompoc United States Penitentiary (UPS) Construction and Operation of a New High-Security Facility and Ancillary Structures on One of Three Sites located in the City of Lompoc, Funding, Santa Barbara County, CA, Due: September 18, 2000, Contact: David J. Dorworth (202) 514-6470.

EIS No. 000262, FINAL EIS, FHW, PA, Mon/Fayette Transportation Project, Improvements from Uniontown to Brownsville Area, Funding and COE Section 404 Permit, Fayette and Washington Counties, PA, Due: September 05, 2000, Contact: Daniel W. Johnson (717) 221-2276.

EIS No. 000263, FINAL EIS, FHW, TX, TX-45 Highway Project, Extending from Anderson Mill Road just west of US 183 to Farm-to-Market Road 685 (FM-685) east of IH-35, Funding, Williamson and Travis Counties, TX, Due: September 05, 2000, Contact: Mr. Walter Waidelich (512) 916-5988.

EIS No. 000264, FINAL EIS, COE, FL, Improving the Regulatory Process in Southwest Florida for the Review of Applications for the Fill of Wetlands (US Army COE Section 404 Permit), Lee and Collier Counties, FL, Due: September 05, 2000, Contact: Bob Barron (904) 232-2203.

EIS No. 000265, DRAFT EIS, SFW, OH, Little Darby National Wildlife Refuge Establishment in the Little Darby Creek Watershed for Restoration, Preservation, Enhancement and Protection of Fish and Wildlife Resources, Madison and Union Counties, OH, Due: September 28, 2000, Contact: Thomas J. Larson (612) 713-5430.

EIS No. 000266, FINAL EIS, DOE, Sodium-Bonded Spent Nuclear Fuel Treatment and Management, Candidate Disposal Sites are Argonne National Laboratory-West (ANL-W) located within the boundaries of the Idaho National Laboratory, ID and the Savannah River Sites (SRS) F-Area and L-Area, SC, Due: September 05, 2000, Contact: Susan M. Lesica (301) 903-8755.

EIS No. 000267, FINAL SUPPLEMENT, COE, FL, Central and Southern Florida Project for Flood Control and Other Purposes, Everglades National Park Modified Water Deliveries, New Information concerning Flood Mitigation to the 8.5 Square Mile Area (SMA), Implementation, South Miami, Dade County, FL, Due: September 05, 2000, Contact: Dennis Barnett (404) 562-5225.

EIS No. 000268, DRAFT EIS, COE, MO, Chesterfield Valley Flood Control Study, Improvement Flood Protection, City of Chesterfield, St. Louis County, MO, Due: September 18, 2000, Contact: D. Foley (314) 331-8648.

Amended Notices

EIS No. 000180, DRAFT EIS, NRS, MS, New Porters Bayou Watershed Plan, Reducing Flood and Drainage Damage To Cropland, Improvements to Watershed Channels, City of Shaw, Bolivar and Sunflower Counties, MS, Due: July 31, 2000, Contact: Homer L. Wilkes (601) 965-5205.

Officially Withdrawn by the Preparing Agency.
Dated: August 1, 2000.
Ken Mittelholtz,
Environmental Protection Specialist, Office of Federal Activities.

[FR Doc. 00-19848 Filed 8-3-00; 8:45 am]

BILLING CODE 6560-50-P